DEPARTMENT OF AGRICULTURE

Agricultural Marketing Service

7 CFR Part 970

[Docket No. AO-FV-09-0138; AMS-FV-09-0029; FV09-970-1E]

Leafy Green Vegetables Handled in the United States; Extension of Time for First Session of Hearing on Proposed Marketing Agreement No. 970

AGENCY: Agricultural Marketing Service, USDA.

ACTION: Proposed rule; notice of additional time for public hearing on proposed national marketing agreement for leafy green vegetables.

SUMMARY: This notice announces that the scheduled hearing date for the Monterey, California session of a public hearing to consider a proposed marketing agreement for the handling of leafy green vegetables in the United States may be extended by one day, if deemed necessary by the presiding administrative law judge.

DATES: The Monterey, California session for the public hearing is currently scheduled for September 22 through 24, 2009. This hearing session may be extended by an additional day, September 25, 2009, if deemed necessary. As with the other scheduled sessions, this session would begin at 8:30 a.m. and conclude at 5 p.m., or any other time as determined by the presiding administrative law judge.

ADDRESSES: The hearing location in Monterey is: Hyatt Regency Monterey, 1 Old Golf Course Road, Monterey, California, (831) 372-1234.

FOR FURTHER INFORMATION CONTACT: Antoinette Carter, Marketing Order Administration Branch, Fruit and Vegetable Programs, AMS, USDA, 1400 Independence Avenue, SW., Stop 0237, Washington, DC 20250-0237; Telephone: (202) 720-2491, Fax: (202) 720-8938, or e-mail: Antoinette.Carter@ams.usda.gov; or Melissa Schmaedick, Marketing Order Administration Branch, Fruit and Vegetable Programs, Northwest Marketing Field Office, AMS, USDA, 1220 SW. Third Avenue, Room 385, Portland, OR 97204; Telephone: (503) 326-2724, Fax: (503) 326-7440, or e-mail: Melissa.Schmaedick@ams.usda.gov.

SUPPLEMENTARY INFORMATION:

Prior documents in this proceeding: Notice of Hearing issued August 31, 2009; published September 3, 2009 (74 FR 45565).

Notice is hereby given that the scheduled hearing date for the Monterey, California session of a public hearing to consider a proposed marketing agreement for the handling of leafy green vegetables in the United States may be extended by one day, if deemed necessary by the presiding administrative law judge.

The Department of Agriculture (USDA) previously announced a hearing to consider a proposed marketing agreement for the handling of leafy green produce in the United States. Hearing dates have been scheduled for various locations throughout the United States, including Monterey, California. However, an additional day may be required to receive testimony and evidence in Monterey. This notice announces the addition of September 25, 2009 to the first session, if deemed necessary by the presiding administrative law judge.

Information regarding the hearing and the proposed marketing agreement is contained in the Notice of Hearing, which may be viewed at: http://www.regulations.gov/search/Regs/home.html#documentDetail?R=0900006480a1c313.

List of Subjects in 7 CFR Part 970

Marketing agreements, Reporting and recordkeeping requirements, Vegetables.

Authority: U.S.C. 601-674.

Dated: September 18, 2009.
Rayne Pegg,
Administrator, Agricultural Marketing Service.

[FR Doc. E9-22992 Filed 9-21-09; 11:15 am]

BILLING CODE 3410-02-P